ENVIRONMENTAL PROTECTION AGENCY

[FRL-7785-9]

Notice of Two Open Meetings of the Environmental Financial Advisory Board Meeting

AGENCY: Environmental Protection Agency (EPA).

ACTION: Notice.

SUMMARY: The United States Environmental Protection Agency's Environmental Financial Advisory Board (EFAB) will hold two open meetings. EFAB is an EPA advisory committee chartered under the Federal Advisory Committee Act (FACA) to provide advice and recommendations to EPA on creative approaches to funding environmental programs, projects, and activities.

First, a meeting of the full board will be held to discuss progress with work products under EFAB's current strategic action agenda and develop an action agenda to direct the Board's ongoing and new activities through FY 2005. Topics of discussion include financial assurance mechanisms; innovative environmental financing tools; non-point source (watershed) financing; useful life financing of water facilities; and joint operations of the drinking water and wastewater state revolving loan funds.

The second meeting will be a workshop to address affordability issues. The purpose of the workshop is to explore U.S. water and wastewater affordability problems and solutions, particularly those that affect lower income groups. The Board will collect information, ideas, and recommendations from a group of expert panelists who will share their perspective on affordability issues.

Both meetings are open to the public, however; seating is limited. All members of the public who wish to attend either meeting must register in advance, no later than Wednesday, August 4, 2004.

DATES: Full Board Meeting is scheduled for August 16, 2004, from 1 p.m.-5 p.m. and August 17, 2004, from 8:45 a.m.-5 p.m.

Affordability Workshop is scheduled for August 18, 2004, from 9 a.m.-5 p.m.

ADDRESSES: Omni San Francisco Hotel, 500 California St., Telegraph Hill Room, San Francisco, CA 94104.

FOR FURTHER INFORMATION CONTACT: To register for the meeting or get further information, please contact Alecia Crichlow, U.S. EPA, (202) 564-5188 or crichlow.alecia@epa.gov.

Dated: July 2, 2004.
Joseph Dillon,
Director, Office of Enterprise Technology and Innovation.

[FR Doc. 04-15719 Filed 7-9-04; 8:45 am]

BILLING CODE 6560-50-P